FEDERAL TRADE COMMISSION

Delegation of Authority To Disclose Certain Nonpublic Complaint Information to Domestic Law Enforcement Agencies

AGENCY: Federal Trade Commission.

ACTION: Delegation of Authority.

SUMMARY: The Commission has delegated authority to the Associate Director of the Division of Planning and Information, Bureau of Consumer Protection, to allow U.S. Consumer Sentinel law enforcement members to access, via the secure Consumer Sentinel Web site, all consumer complaints received by the FTC.

DATES: Effective Date: June 1, 2008.

FOR FURTHER INFORMATION CONTACT: Nicholas Mastrocinque, 202-326-3188, Division of Planning & Information, Bureau of Consumer Protection, Federal Trade Commission, 600 Pennsylvania Avenue, NW., Washington, DC 20580.

SUPPLEMENTARY INFORMATION: Notice is hereby given that, pursuant to Reorganization Plan No. 4 of 1961, 26 FR 6191, the Commission has delegated to the Associate Director of the Division of Planning and Information, Bureau of Consumer Protection, the authority to permit U.S. Consumer Sentinel law enforcement members to access, via the secure Consumer Sentinel Web site, all consumer complaint information it receives. Domestic Consumer Sentinel members will have expanded access to complaints previously unavailable to them in Consumer Sentinel, including complaints against third-party debt collectors, credit bureaus, and mortgage lenders.

When exercising its authority under this delegation, staff will require from the Consumer Sentinel law enforcement agency members assurances of confidentiality and data security. This delegation does not apply to competition-related investigations.

By direction of the Commission.
Donald S. Clark,
Secretary.

[FR Doc. E8-8482 Filed 4-17-08; 8:45 am]

BILLING CODE 6750-01-P